Title 3—

The President

Proclamation 7305 of May 10, 2000

Mother's Day, 2000

By the President of the United States of America

A Proclamation

We are living in a new century and a new age, where the revolution in communications technology is changing almost every aspect of human experience. But even in this new era of global connections, there is perhaps no more powerful link than the love between mother and child.

That bond is a child's first experience of the world, and that love is often the deepest source of the self-esteem, courage, and character that children need to thrive. Mothers are their children's first teachers; they are their inspiring role models whose generosity, compassion, and unconditional acceptance give children the strength and encouragement to reach their fullest potential and to make their own contributions to their families, communities, and country.

Even in this age of spectacular technological advances, mothers still face the daunting challenges of balancing the responsibilities of home and work and meeting the changing emotional, educational, and physical needs of their children. Mothers strive to provide a safe and nurturing environment. They help their children navigate the often stormy waters of an increasingly complicated world. They teach their children to approach conflict with words, not violence; to cherish the richness of our diversity and reject prejudice in any form; and to believe in themselves.

Each year we set aside this special day to acknowledge all that our mothers—whether biological or foster, adoptive or stepmothers—have given us. It is a time to reflect on all we have gained from their unwavering care, guidance, and sacrifice, and a time to express openly our deep gratitude and abiding love. The Congress, by a joint resolution approved May 8, 1914 (38 Stat. 770), has designated the second Sunday in May of each year as “Mother's Day” and requested the President to call for its appropriate observance.

NOW, THEREFORE, I, WILLIAM J. CLINTON, President of the United States of America, do hereby proclaim May 14, 2000, as Mother's Day. Whether we are able to share this special day with our mothers in person or are blessed only with our memories of their love, in our hearts they remain with us always. I urge all Americans to express their love and respect for their mothers on this day, to speak the words of appreciation we too often neglect to say, and to observe this day with appropriate ceremonies, activities, and programs.

IN WITNESS WHEREOF, I have hereunto set my hand this tenth day of May, in the year of our Lord two thousand, and of the Independence of the United States of America the two hundred and twenty-fourth.

wj

[FR Doc. 00-12259

Filed 5-11-00; 11:29 am]

Billing code 3195-01-P